DEPARTMENT OF THE INTERIOR

Minerals Management Service

Preparation of an Environmental Assessment for the Alternative Energy and Alternate Use Proposed Rule

AGENCY: Minerals Management Service (MMS), Interior.

ACTION: Preparation of an environmental assessment (EA).

SUMMARY: The MMS is issuing this notice to advise the public, pursuant to the National Environmental Policy Act of 1969 (NEPA), as amended, 42 U.S.C. 4321 et seq., that the MMS intends to prepare an EA for the Alternative Energy and Alternate Use (AEAU) proposed rule. The MMS is issuing this notice to facilitate public involvement. The preparation of this EA is an important step in the rulemaking process. An Advanced Notice of Proposed Rulemaking was published in the Federal Register on December 30, 2005. A Final Programmatic Environmental Impact Statement (FEIS) analyzed the establishment of the MMS AEAU program, of which rulemaking is a component. The Programmatic Environmental Impact Statement for Alternative Energy Development and Production and Alternate Use of Facilities on the Outer Continental Shelf was published on November 6, 2007 (OCS EIS/EA MMS 2007-046).

FOR FURTHER INFORMATION CONTACT: Mr. James F. Bennett, Minerals Management Service, MS 4042, 381 Elden Street, Herndon, VA 20170. You may also contact Mr. Bennett by telephone at (703) 787-1660.

SUPPLEMENTARY INFORMATION: In August 2005, Congress enacted the Energy Policy Act of 2005. The Energy Policy Act of 2005 (EPAct) amended section 8 of the OCS Lands Act (OCSLA), 43 U.S.C. 1337, to give the Secretary of the Interior (Secretary) authority to issue a lease, easement, or right-of-way on the OCS for activities that are not otherwise authorized by the OCSLA, or other applicable law, if those activities (1) produce or support production, transportation, or transmission of energy from sources other than oil and gas or (2) use, for energy-related purposes or other authorized marine-related purposes, facilities currently or previously used for activities authorized under the OCSLA.

Subsection 8(p) of the OCSLA (42 U.S.C. 1337(p)) requires that the Secretary, in consultation with other relevant agencies, develop and issue any necessary regulations to implement its new authority. The Secretary delegated this authority to the Director, MMS.

Public Comments: Interested parties are requested to send, within 30 days of this Notice's publication, comments regarding any new information or issues that should be addressed in the EA. Comments may be submitted in one of the following two ways:

1. In written form enclosed in an envelope labeled “Comments on Alternative Energy Rulemaking EA” and mailed (or hand carried) to the Branch Chief, Environmental Assessment Branch, Minerals Management Service, MS 4042, 381 Elden Street, Herndon, VA 20170.

2. Electronically to the MMS e-mail address: alternative@mms.gov. To obtain single copies of the Programmatic EIS published on November 7, 2007, you may contact Mr. James F. Bennett, Minerals Management Service, MS 4042, 381 Elden Street, Herndon, VA 20170. You may also view the Programmatic EIS on the MMS Web site at: ocsenergy.anl.gov.

Dated: February 21, 2008.
Renee Orr,
Acting Associate Director for Offshore Minerals Management.

[FR Doc. E8-3625 Filed 2-25-08; 8:45 am]

BILLING CODE 4310-MR-P